Memorandum of September 30, 2022

Delegation of Authority Under Public Law 117-169

Memorandum for the Director of the Office of Management and Budget

By the authority vested in me as President by the Constitution and the laws of the United States of America, including section 301 of title 3, United States Code, I hereby delegate to the Director of the Office of Management and Budget the functions and authorities vested in the President by section 50141(d)(1) of Public Law 117-169, with respect to the certification of certain loan guarantees and projects.

You are authorized and directed to publish this memorandum in the Federal Register.

THE WHITE HOUSE,

Washington, September 30, 2022

[FR Doc. 2022-21844

Filed 10-4-22; 11:15 am]

Billing code 3110-01-P